DEPARTMENT OF HEALTH AND HUMAN SERVICES

Administration for Children and Families

Submission for OMB Review; Evaluation of the Family Unification Program—Extension (OMB #0970-0514)

AGENCY: Office of Planning, Research, and Evaluation, Administration for Children and Families, HHS.

ACTION: Request for public comment.

SUMMARY: The Administration for Children and Families (ACF) at the U.S. Department of Health and Human Services (HHS) requests an extension to continue data collection for the Evaluation of the Family Unification Program (FUP) (OMB #0970-0514). Information collection activities requested include interviews, focus group discussions, program data, and administrative data collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ACF, Office of Planning, Research, and Evaluation (OPRE) requests public comment on a proposed extension to a currently approved information collection for the Evaluation of FUP. The approved instruments, supporting statements, and attachments are available at https://www.reginfo.gov/public/do/PRAViewICR?ref_nbr=202009-0970-004. No changes are proposed.

Activities include site visits to each program to speak with program leaders, partners and key stakeholders, front-line staff, and participants as well as program and administrative data collection. The evaluation will contribute to understanding the effects of FUP on project participants' child welfare involvement. This evaluation is part of a larger project to help ACF build the evidence base in child welfare through rigorous evaluation of programs, practices, and policies. The Department of Housing and Urban Development (HUD) funds and administers FUP. The study will also contribute to HUD's understanding of how housing can serve as a platform for improving quality of life.

Respondents: Public housing authority staff, public child welfare agency staff, other services provider staff, and child welfare-involved families.

Annual Burden Estimates
Instrument | Number of respondents (total over request period) | Number of responses per respondent (total over request period) | Average burden per response (in hours) | Total burden (in hours) | Annual burden (in hours)
Guide for Implementation Study for PCWA Management | 2 | 1 | 1.00 | 2.00 | 1
Guide for Implementation Study for PHA Management | 2 | 1 | 1.00 | 2.00 | 1
Guide for Implementation Study for CoC Management | 2 | 1 | 1.00 | 2.00 | 1
Guide for Implementation Study for Referral Provider Administrators | 2 | 1 | 1.00 | 2.00 | 1
Guide for Implementation Study with PCWA FUP Management (Second) | 2 | 1 | 1.00 | 2.00 | 1
Guide for Implementation Study for PHA FUP Management | 2 | 1 | 1.00 | 2.00 | 1
Guide for Implementation Study Focus Groups with PHA Frontline Workers | 6 | 1 | 1.50 | 9.00 | 3
Guide for Implementation Study for Parents (Second, Third) | 72 | 1 | 1.50 | 108 | 36
Guide for Implementation Study Focus Groups with Frontline Workers | 180 | 1 | 1.50 | 270 | 90
Guide for Implementation Study for PCWA FUP Management (Third) | 6 | 1 | 1.00 | 6.00 | 2
Guide for Implementation Study for Service Provider Management | 5 | 1 | 1.00 | 5.00 | 2
Housing Status Form | 185 | 31 | 0.04 | 230 | 77
Referral Form | 60 | 10 | 0.17 | 102 | 34
Randomization Tool | 3 | 200 | 0.02 | 12 | 4
Housing Assistance Questionnaire | 120 | 3 | 0.09 | 33 | 11
Ongoing Services Questionnaire | 120 | 3 | 0.09 | 33
Dashboard | 12 | 27 | 0.17 | 56 | 19
Administrative Data List | 18 | 2 | 5.00 | 180 | 60

Estimated Total Annual Burden Hours: 355.

Authority: 42 U.S.C. 676.

Mary B. Jones,
ACF/OPRE Certifying Officer.

[FR Doc. 2021-18438 Filed 8-26-21; 8:45 am]

BILLING CODE 4184-25-P